DEPARTMENT OF COMMERCE

United States Patent and Trademark Office

Submission for OMB Review; Comment Request

The United States Patent and Trademark Office (USPTO) has submitted to the Office of Management and Budget (OMB) for clearance the following proposal for collection of information under the provisions of the Paperwork Reduction Act (44 U.S.C. Chapter 35).

Agency:United States Patent and Trademark Office (USPTO).

Title: Patent Processing (Updating) (Proposed Additions of Request for Continued Examination and Reconstruction of Unlocatable Application and Patent Files).

Form Numbers: PTO/SB/30.

Agency Approval Number: 0651-0031.

Type of Request: Revision of a currently approved collection.

Burden: 1,018,736 hours.

Number of Respondents: 2,231,365 respondents.

Avg. Hours Per Response: The USPTO estimates that it will take the public 12 minutes to gather, prepare, and submit a request for continued examination. The USPTO estimates that it will take the public one hour to gather, prepare, and submit a copy of the applicant's record of the application or patent file.

Needs and Uses: This collection of information is required by 35 U.S.C. 132, which has been amended by the “American Inventors Protection Act of 1999.” Specifically, the “American Inventors Protection Act of 1999” amends U.S.C. 132 to provide that the USPTO may prescribe regulations for the continued examination of applications (for a fee) at the request of the applicant. The USPTO has created a form for these requests which applicants can submit instead of filing a continued prosecution application. The USPTO uses these forms to process and initiate continued examination of a previously submitted application. In addition, the USPTO is publishing an interim rule associated with this information collection that allows the USPTO to request a copy of the record of the correspondence between the USPTO and the applicant or patentee in order to reconstruct application or patent files that are misplaced and cannot be found after a diligent search. Reconstructing the misplaced application or patent file allows the USPTO to continue prosecuting a patent application. If applicants do not respond to the USPTO in a timely manner with either the correspondence or copies of the correspondence, the USPTO will abandon the patent application.

Affected Public: Individuals or households, businesses or other for-profit, not-for-profit institutions, farms, Federal Government, and State, local or tribal governments.

Frequency: On occasion.

Respondent's Obligation: Required to obtain or retain benefits.

OMB Desk Officer: David Rostker (202) 395-3897.

Copies of the above information collection proposal can be obtained by calling or writing Thao Nguyen, Manager, Data Administration Division (Acting Records Officer), (703) 308-7397, Data Administration Division, Office of Data Management, United States Patent and Trademark Office, Crystal Park 3, 3rd Floor, Suite 310, Washington, D.C. 20231 or via the Internet at (Thao.Nguyen@uspto.gov).

Written comments and recommendations for the proposed information collection should be sent within 30 days of publication to David Rostker, OMB Desk Officer, Room 10236, New Executive Office Building, 725 17th Street, NW., Washington, D.C. 20503.

Dated: June 16, 2000.
Thao Nguyen,
Manager, Data Administration Division (Acting Records Officer), Office of Data Management.

[FR Doc. 00-16022 Filed 6-22-00; 8:45 am]

BILLING CODE 3510-16-P